FEDERAL DEPOSIT INSURANCE CORPORATION

Notice to All Interested Parties of Intent To Terminate Receiverships

NOTICE IS HEREBY GIVEN that the Federal Deposit Insurance Corporation (FDIC or Receiver), as Receiver for the institutions listed below, intends to terminate its receivership for said institutions.

Notice of Intent to Terminate Receiverships
Fund | Receivership name | City | State | Date of appointment of receiver
10034 | County Bank | Merced | CA | 02/06/2009
10042 | Heritage Community Bank | Glenwood | IL | 02/27/2009
10044 | Freedom Bank Of Georgia | Commerce | GA | 03/06/2009
10052 | American Sterling Bank | Sugar Creek | MO | 04/17/2009
10094 | Mutual Bank | Harvey | IL | 07/31/2009
10154 | Benchmark Bank | Aurora | IL | 12/04/2009
10191 | Bank Of Illinois | Normal | IL | 03/05/2010
10280 | Imperial Savings and Loan Association | Martinsville | VA | 08/20/2010
10307 | First Vietnamese American Bank | Westminster | CA | 11/05/2010
10332 | Evergreen State Bank | Stoughton | WI | 01/28/2011
10501 | Valley Bank | Fort Lauderdale | FL | 06/20/2014
10514 | Edgebrook Bank | Chicago | IL | 05/08/2015

The liquidation of the assets for each receivership has been completed. To the extent permitted by available funds and in accordance with law, the Receiver will be making a final dividend payment to proven creditors.

Based upon the foregoing, the Receiver has determined that the continued existence of the receiverships will serve no useful purpose. Consequently, notice is given that the receiverships shall be terminated, to be effective no sooner than thirty days after the date of this notice. If any person wishes to comment concerning the termination of any of the receiverships, such comment must be made in writing, identify the receivership to which the comment pertains, and be sent within thirty days of the date of this notice to: Federal Deposit Insurance Corporation, Division of Resolutions and Receiverships, Attention: Receivership Oversight Department 34.6, 1601 Bryan Street, Dallas, TX 75201.

No comments concerning the termination of the above-mentioned receiverships will be considered which are not sent within this time frame.

Dated at Washington, DC, on February 4, 2019.
Federal Deposit Insurance Corporation.
Robert E. Feldman,
Executive Secretary.

[FR Doc. 2019-01542 Filed 2-7-19; 8:45 am]

BILLING CODE 6714-01-P